DEPARTMENT OF AGRICULTURE

Foreign Agricultural Service

Fiscal Year 2024 Raw Cane Sugar Tariff-Rate Quota Increase

AGENCY: Foreign Agricultural Service, U.S. Department of Agriculture.

ACTION: Notice.

SUMMARY: The Foreign Agricultural Service is providing notice of an increase in the fiscal year (FY) 2024 raw cane sugar tariff-rate quota (TRQ) of 125,000 metric tons raw value (MTRV).

DATES: This notice is applicable on March 7, 2024.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: On July 5, 2023, the Foreign Agricultural Service established the FY 2024 TRQ for raw cane sugar at 1,117,195 MTRV, the minimum to which the United States is committed under the World Trade Organization (WTO) Uruguay Round Agreements. Pursuant to Additional U.S. Note 5 to Chapter 17 of the U.S. Harmonized Tariff Schedule (HTS), the Secretary has authority to modify the raw and refined sugar WTO TRQs. The Secretary's authority under Additional U.S. Note 5 has been delegated to the Under Secretary for Trade and Foreign Agricultural Affairs (7 CFR 2.26). The Under Secretary has subsequently delegated this authority to the Administrator, Foreign Agricultural Service (7 CFR 2.601). The Foreign Agricultural Service gives notice today of an increase in the quantity of raw cane sugar eligible to enter at the lower rate of duty during FY 2024 by 125,000 MTRV. The conversion factor is 1 metric ton raw value equals 1.10231125 short tons raw value. With this increase, the overall FY 2024 raw sugar TRQ is now 1,242,195 MTRV. Raw cane sugar under this quota must be accompanied by a certificate for quota eligibility. The Office of the U.S. Trade Representative (USTR) will allocate this increase among supplying countries and customs areas.

These actions are being taken after a determination that additional supplies of raw cane sugar are required in the U.S. market. USDA will closely monitor stocks, consumption, imports and all sugar market and program variables on an ongoing basis and may make further program adjustments during FY 2024 if needed.

Daniel Whitley,
Administrator, Foreign Agricultural Service.

[FR Doc. 2024-04903 Filed 3-6-24; 8:45 am]

BILLING CODE 3410-10-P